DEPARTMENT OF JUSTICE

[OMB 1140-0010]

Agency Information Collection Activities; Proposed eCollection eComments Requested; Revision of a Previously Approved Collection; Application to Transport Interstate or To Temporarily Export Certain NFA Firearms—ATF Form 5320.20

AGENCY: Bureau of Alcohol, Tobacco, Firearms, and Explosives, Department of Justice

ACTION: 60-Day notice.

SUMMARY: The Department of Justice (DOJ), Bureau of Alcohol, Tobacco, Firearms, and Explosives (ATF), will be submitting the following information collection request (ICR) to the Office of Management and Budget (OMB) for review and approval in accordance with the Paperwork Reduction Act of 1995.

DATES: ATF encourages comments on this information collection. You may submit written comments until midnight on January 27, 2026.

ADDRESSES: Submit written comments and recommendations for this information collection to Meghan Tisserand, Division Staff, National Firearms Act Division, either by mail at National Firearms Act Division; Division Staff Office; 244 Needy Road; Martinsburg, WV 25405, by email at meghan.tisserand@atf.gov, or by telephone at 304.616.3219. Identify comments by the OMB control number 1140-0010. You may view the proposed information collection instrument online at https://www.atf.gov/rules-and-regulations/federal-register-actions/forms-and-information-collection under the month in which this notice was published in the Federal Register.

FOR FURTHER INFORMATION CONTACT: If you have additional comments, especially on the estimated public burden or associated response time, suggestions, or need a copy of the proposed information collection instrument with instructions or additional information, contact: Meghan Tisserand, Division Staff, National Firearms Act Division, either by mail at National Firearms Act Division; Division Staff Office; 244 Needy Road; Martinsburg, WV 25405, by email at Meghan.tisserand@atf.gov, or by telephone at 304.616.3219.

SUPPLEMENTARY INFORMATION: We encourage written comments and suggestions from the public and affected agencies concerning the proposed information collection. Your comments should address one or more of the following four points:

—Evaluate whether the proposed collection of information is necessary to properly perform ATF's functions, including whether the information will have practical utility;

—Evaluate the agency's estimate of the proposed information collection's burden for accuracy, including the validity of the methodology and assumptions used;

—Evaluate whether, and if so, how the quality, utility, and clarity of the collected information can be enhanced; and

—Minimize the information collection's burden on those who are to respond, including using appropriate automated, electronic, mechanical, or other technological collection techniques or other forms of information technology, e.g., permitting electronic submission of responses.

Overview of This Information Collection

1. Abstract: Persons who wish to transport certain NFA firearms (machine guns, short-barreled rifles, short-barreled shotguns, or destructive devices) out of the state in which they registered the firearm, for certain temporary or permanent domestic purposes or for temporary export, must submit ATF Form 5320.20 (“Form 20”) to ATF before they may transport the items. 18 U.S.C. 922(a)(4), 27 CFR 478.28.

2. Type of information collection: Revising a previously approved collection.

3. Title of the form/collection: Application to Transport Interstate or to Temporarily Export Certain NFA Firearms.

4. Agency form number, if any, and the applicable component of the Department sponsoring the collection:

Form number: ATF Form 5320.20.

Component: Bureau of Alcohol, Tobacco, Firearms, and Explosives.

5. Affected public who will be asked or required to respond, as well as the obligation to respond:

Affected Public: state, local, and tribal governments, individuals or households, private sector for-profit institutions, federal government.

Obligation to respond: voluntary, and required to obtain or retain benefits.

6. Estimate of the total number of respondents and the amount of time estimated for an average respondent to respond: An estimated 12,878 respondents will complete this form once annually, and it will take each respondent approximately 0.167 hours to complete their responses.

7. Estimate of the total annual burden (in hours) associated with the collection: The estimated annual public burden associated with this collection is 2,151 total hours, which is equal to 12,878 (total respondents) * 1 (# of responses per respondent) * 0.167 hours.

8. Estimate of the total annual other cost burden associated with the collection, if applicable: $0.

Estimated Total Burden Hours
Activity | Number of respondents | Frequency | Total annual responses | Time per response (hours) | Total annual burden (hours)
Completing Form 20 | 12,878 | 1 | 12,878 | 0.167 | 2,151
Unduplicated Totals |  |  | 12,878 | 0.167 | 2,151

Revisions to This Information Collection

ATF is revising this information collection, OMB control number 1140-0010, to make the form electronically fillable and allow it to be submitted by email. In addition, ATF will have made the form part of its online eForms platform by the time this ICR completes the renewal process, both of which result in full electronic submission. In the process of these changes, ATF has also made the second copy automatically auto-fill, when it was previously completed by the respondent in addition to the primary form. ATF also made some additional small edits to the form to make it easier to read and made a slight revision to the title to clarify the type of transportation covered.

The changes to the form due to updated technology have decreased the time necessary to complete the form, which was previously 20 minutes (ten minutes were attributed to addressing and mailing) and has now decreased to ten minutes. In addition, respondents no longer incur mailing time and costs. There has also been a decrease in the number of respondents per year, from 20,000 respondents during the last renewal to 12,878 during this renewal, a decrease of 7,122 respondents. These combined changes have resulted in a decrease in total annual burden hours from 6,667 hours to 2,151, a decrease of 4,516 hours, and a corresponding decrease in the monetized time value for this ICR.

If you require additional information, contact: Darwin Arceo, Department Clearance Officer; United States Department of Justice; Justice Management Division, Enterprise Portfolio Management; Two Constitution Square; 145 N Street NE, 4W-218; Washington, DC.

Dated: November 25, 2025.
Darwin Arceo,
Department Clearance Officer for PRA,U.S. Department of Justice.

[FR Doc. 2025-21512 Filed 11-26-25; 8:45 am]

BILLING CODE 4410-FY-P